INTERNATIONAL TRADE COMMISSION

Sunshine Act Meeting

AGENCY HOLDING THE MEETING: United States International Trade Commission.

TIME AND DATE: May 15, 2000 at 2 p.m.

PLACE: Room 101, 500 E Street S.W., Washington, DC 20436, Telephone: (202) 205-2000.

STATUS: Open to the public.

MATTERS TO BE CONSIDERED:

1. Agenda for future meeting: none.

2. Minutes.

3. Ratification List.

4. Inv. No. 731-TA-841 (Final)(Certain Non-Frozen Concentrated Apple Juice from China)—briefing and vote. (The Commission will transmit its determination to the Secretary of Commerce on May 22, 2000.)

5. Inv. No. 731-TA-429 (Review) (Mechanical Transfer Presses from Japan)—briefing and vote. (The Commission will transmit its determination to the Secretary of Commerce on May 26, 2000.)

6. Outstanding action jackets: (1) Document No. GC-00-020: Administrative matters.

In accordance with Commission policy, subject matter listed above, not disposed of at the scheduled meeting, may be carried over to the agenda of the following meeting.

By order of the Commission:
Issued: May 5, 2000.
Donna R. Koehnke,
Secretary.

[FR Doc. 00-11755 Filed 5-8-00; 10:10 am]

BILLING CODE 7020-02-P